DEPARTMENT OF ENERGY

Federal Energy Regulatory Commission

[Docket No. ES01-31-000, et al.]

American Transmission Company LLC, et al.; Electric Rate and Corporate Regulation Filings

May 1, 2001.

Take notice that the following filings have been made with the Commission:

1. American Transmission Company LLC

[Docket No. ES01-31-000]

Take notice that on April 23, 2001, American Transmission Company LLC (American Transmission) submitted an application pursuant to section 204 of the Federal Power Act requests authorization to issue ownership interests totaling approximately 8.62% of its total ownership shares. American Transmission also requests authorization to issue additional ownership interests in an amount not to exceed 3% of American Transmission's total ownership per transaction over a two-year period. Alternatively, American Transmission requests authorization no more than an additional 5% of its cumulative ownership interests over a two-year period.

American Transmission also requests a waiver of the Commission's competitive bidding and negotiated placement requirements at 18 CFR 34.2.

Comment date: May 21, 2001, in accordance with Standard Paragraph E at the end of this notice.

2. Southern California Edison Company

[Docket No. ER01-1874-000]

Take notice that on April 26, 2001, Southern California Edison Company (SCE) tendered for filing a Service Agreement For Wholesale Distribution Service under SCE's Wholesale Distribution Access Tariff and an Interconnection Facilities Agreement (Agreements) between SCE and Alta Mesa Power Partners, LLC (AMPP).

These Agreements specify the terms and conditions under which SCE will interconnect AMPP's generating facility to its electrical system and provide Distribution Service for up to 40 MW of power produced by the generating facility.

Copies of this filing were served upon the Public Utilities Commission of the State of California and AMPP.

Comment date: May 17, 2001, in accordance with Standard Paragraph E at the end of this notice.

3. Southern Company Services, Inc.

[Docket No. ER01-1868-000]

Take notice that on April 25, 2001, Southern Company Services, Inc. (SCS) acting on behalf of Alabama Power Company, Georgia Power Company, Gulf Power Company, Mississippi Power Company (MPC), and Savannah Electric and Power Company (collectively referred to as Southern Company), tendered for filing two (2) service agreements for Network Integration Transmission Service between Southern Companies and Energy Marketing, a department of SCS, as agent for MPC, under the Open Access Transmission Tariff of Southern Companies (FERC Electric Tariff, Fourth Revised Volume No. 5). Under these two (2) agreements, power will be respectively delivered to (i) Singing River EPA's North Lucedale Delivery Point and (ii) Singing River EPA's Joe Batt Road Delivery Point. These agreements are being filed in conjunction with a power sale by SCS, as agent for MPC, to South Mississippi Electric Power Association under Southern Companies' Market-Based Rate Power Sales Tariff.

Comment date: May 16, 2001, in accordance with Standard Paragraph E at the end of this notice.

4. Mirant Delta, LLC, Mirant Potrero, LLC

[Docket No. ER01-1876-000]

Take notice that, on April 26, 2001, Mirant Delta, LLC (Mirant Delta) and Mirant Potrero, LLC (Mirant Potrero) tendered for filing certain revised tariff sheets to the Must-Run Service Agreements between Mirant Delta, Mirant Potrero, and the California Independent System Operator Corporation in order to (1) revise the agreements to reflect the January 19, 2001 name changes of the Mirant Parties from Southern Energy Delta, L.L.C. and Southern Energy Potrero, L.L.C. to Mirant Delta, LLC and Mirant Potrero, LLC, respectively, and (2) change the persons identified in Schedule J of the RMR Agreements to receive notices on behalf of the Mirant Parties.

Comment date: May 17, 2001, in accordance with Standard Paragraph E at the end of this notice.

5. San Diego Gas & Electric Company

[Docket No. ER01-1878-000]

Take notice that on April 26, 2001, San Diego Gas & Electric Company (SDG&E) tendered for filing as service agreements to its FERC Electric Tariff, First Revised Volume No. 6, two interconnection agreements. Both agreements relate to the interconnection of a new generation plant to be owned by RAMCO, Inc. (RAMCO). The plant, with a capacity of approximately 49.5 megawatts, is being constructed on an expedited basis to meet potential shortfalls this summer in the Western states' electricity supplies. It will be located in Escondido, San Diego County, California and is expected to begin service on or about July 8, 2001.

Service Agreement No. 5 is an Expedited Interconnection Facilities Agreement dated April 26, 2001 between SDG&E and RAMCO, under which SDG&E will construct, operate, and maintain the proposed interconnection facilities. Service Agreement No. 6, the Interconnection Agreement between SDG&E and RAMCO dated April 12, 2001, establishes interconnection and operating responsibilities and associated communications procedures between the parties. SDG&E requests an effective date of April 26, 2001 for both agreements.

SDG&E states that copies of the filing have been served on RAMCO and on the California Public Utilities Commission.

Comment date: May 17, 2001, in accordance with Standard Paragraph E at the end of this notice.

6. Dominion Nuclear Connecticut, Inc.

[Docket No. ER01-1879-000]

Take notice that on April 26, 2001 Dominion Nuclear Connecticut, Inc. (DNC) tendered for filing an agreement for the sale of electric energy and capacity by DNC to Dominion Nuclear Marketing, I, Inc., Dominion Nuclear Marketing II, Inc. and Dominion Nuclear Marketing III, L.L.C., dated March 30, 2001.

Comment date: May 17, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11484 Filed 5-7-01; 8:45 am]

BILLING CODE 6717-01-M